COMMISSION ON CIVIL RIGHTS

Sunshine Act Notice

AGENCY: United States Commission on Civil Rights.

ACTION: Notice of meeting.

Date and Time: Friday, July 10, 2009; 9:30 a.m. EDT.

Place: 624 9th St., NW., Room 540, Washington, DC 20425.

Meeting Agenda

This meeting is open to the public.

I. Approval of Agenda

II. Approval of Minutes of June 12, 2009 Meeting

III. Announcements

IV. Program Planning:

• National Civil Rights Conference;

• Update on Status of 2009 Statutory Report;

• Discussion of 2010 Statutory Report Topic;

• Approval of Briefing Report on Title IX.

V. State Advisory Committee Issues:

• Virginia SAC.

VI. Adjourn

FOR FURTHER INFORMATION CONTACT: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: June 29, 2009.
David Blackwood,
General Counsel.

[FR Doc. E9-15709 Filed 6-29-09; 4:15 pm]

BILLING CODE 6335-01-P